DEPARTMENT OF THE INTERIOR

Bureau of Land Management

[CA-930-01-1990-00; CACA-35511]

Imperial Project Proposed Open Pit Gold Mine, Southeastern Imperial County, California; Notice of Availability of Final Environmental Impact Statement/Environmental Impact Report

AGENCY: Bureau of Land Management, Department of the Interior, El Centro Field Office, California Desert District.

ACTION: Correction of Federal Register Notice of 11/09/00, Vol. 65, No. 218.

SUMMARY: This notice corrects the ending date of acceptance of public comments on the Imperial Project FEIS/EIR from November 27, 2000, to the close of business on December 18, 2000. The remainder of this notice, with the exception of the December 18, 2000 date, and a minor correction of the internet web page address from “imperial project” to “imperial_project” is identical to the November 9th notice.

In compliance with the National Environmental Policy Act (NEPA) of 1969 and 40 CFR 1503.4, this is notice that the Bureau of Land Management (BLM) and the County of Imperial have jointly published the Final Environmental Impact Statement/Environmental Impact Report (Final EIS/EIR) on the proposed Imperial Project. The Bureau of Land Management (BLM) has prepared a Final EIS/EIR for the Imperial Project, proposed by Glamis Imperial Corporation is an open-pit gold mine on about 1,500 acres of public land. The project is located on BLM-administered public lands in an unincorporated area of southeastern Imperial County, California. The Final EIS/EIR contains the BLM preferred alternative.

Interested citizens are invited to review a copy of the Final EIS. The entire document will be available on the internet at http://www.ca.blm.gov/elcentro/imperial_project. The document also is available by request to the BLM El Centro Field Office on CD-ROM. The CD-ROM is in Adobe Acrobat Reader format, and contains a free download of Acrobat Reader so it can be opened easily.

A limited number of paper copies of the Final EIS are available, and a copy may be obtained by telephoning or writing the contact person listed below. Public reading copies are available at the following public libraries:

List of Libraries to Which Copies of the Final EIS/EIR Have Been Sent

Arizona Western College Library, 9500 South Avenue 8 East, Yuma, AZ 85365

Holtville Library, 101 East Sixth Street, Holtville, CA 92250

BLM Library SC-322A, Bldg. 50, Denver Federal Center, Denver, CO 80225

Brawley Public Library, 400 Main Street, Brawley, CA 92227

Calexico City Library, 850 Encinas Avenue, Calexico, CA 92231

El Centro Public Library, 539 State Street, El Centro, CA 92243

Imperial County Library, 1647 West Main Street, El Centro, CA 92243

Imperial County Free Library, 939 West Main Street, El Centro, CA 92243

Imperial Valley College Library, 380 East Aten Road, Imperial, CA 92251

Imperial Public Library, 200 W. Ninth Street, Imperial, CA 92251

Meyer Memorial Library, 225 West Main Street, Calipatria, CA 92233

Palo Verde District Library, 125 W. Chanslor Way, Blythe, CA 92225

San Diego City Public Library—Clairemont, 2920 Burgener Boulevard,

San Diego, CA 92110-1027

San Diego City Public Library—Logan Hills, 811 South 28th Street, San Diego, CA 92113-2498

San Diego City Pub. Library—Mission Hills, 925 West Washington Street, San Diego, CA 92103-1895

San Diego City Public Library—Oak Park, 2802 54th Street, San Diego, CA 92105-4941

San Diego City Public Library—Paradise Hills, 5922 Rancho Hills Drive, San Diego, CA 92139-3137

San Diego County Public Library, 2130 Arnold Way, Alpine, CA 91901-9499

San Diego County Public Library, 652 Palm Canyon Drive, Borrego Springs, CA 92004-0297

San Diego County Public Library, 1309 Camino del Mar, Del Mar, CA 92014-2693

San Diego County Public Library, 201 E. Douglas, El Cajon, CA 92020-4519

San Diego County Public Library, 8055 University Avenue, La Mesa, CA 91941-5097

San Diego County Public Library, 1406 Monicito Road, Ramona, CA 92065-2296

San Diego County Public Library, 700 Eucalyptus Avenue, Vista, CA 92084-6245

San Diego State University Library, 720 Heber Avenue, Calexico, CA 92231

Sierra Club, San Diego Chapter Office Library, 3820 Ray Street, San Diego, CA 92104-3623

Yuma County Library District, 350 South 3rd Avenue, Yuma, AZ 85364.

DATES: Public comments on the Final EIS/EIR will be accepted at the BLM El Centro Field Office until close of business on December 18, 2000. Unless specifically requested otherwise, names of commentators will be available to the public. BLM will be rendering a decision on the proposed Project no sooner than mid-December 2000.

FOR ADDITIONAL INFORMATION CONTACT: Comments on the Final EIS/EIR should be addressed to Mr. Glen R. Miller, BLM El Centro Field Office, 1661 S. 4th St., El Centro, CA 92243. To obtain copies of the Final EIS/EIR, contact Mr. Miller at (760) 337-4473. Fax requests may be sent to the attention of Mr. Glen Miller at (760) 337-4490. Requests also may be placed through email at: gmiller@ ca.blm.gov. Please specify either CD-ROM or the specific volume(s) desired (see Supplemental Information below). Include your name, complete mailing address (no P.O. Boxes), and phone number on all requests.

SUPPLEMENTARY INFORMATION: A Draft EIS/EIR was published in November 1997, with a comment period closing on April 13, 1998.

A Recirculated Supplement to the Draft EIS/EIR (SDEIS/EIR) was released in March 1999.

The Final EIS/EIR incorporates changes based on public comments received on the Draft EIS/EIR. The Final EIS/EIR contains the BLM Preferred Alternative, along with responses to written comments received during the 135-day public comment period for the Draft EIS/EIR. Both the Solicitor's Opinion on regulation of hardrock mining in the California desert, and a report of the task force of the Advisory Council on Historic Preservation are included as appendices to Volume I. The Final EIS/EIR has 3 volumes:

• Volume I—Main Text—(incorporates changes to DEIS/EIR, text and appendices)

• Volume II—Technical Appendices—(this is identical to the DEIS/EIR Volume II)

• Volume III—Public Comments to the Draft EIS/EIR and Responses to Comments—Written Comment Letters from Individuals/Petitions/Form Letters

Dated: November 9, 2000.
Greg Thomsen,
Field Manager.

[FR Doc. 00-29401 Filed 11-15-00; 8:45 am]

BILLING CODE 4310-40-P